SUSQUEHANNA RIVER BASIN COMMISSION

Public Hearing

AGENCY: Susquehanna River Basin Commission.

ACTION: Notice.

SUMMARY: The Susquehanna River Basin Commission will hold a public hearing on November 2, 2017, in Harrisburg, Pennsylvania. At this public hearing, the Commission will hear testimony on the projects listed in the SUPPLEMENTARY INFORMATION section of this notice. Such projects are intended to be scheduled for Commission action at its next business meeting, tentatively scheduled for December 7, 2017, which will be noticed separately. The public should take note that this public hearing will be the only opportunity to offer oral comment to the Commission for the listed projects. The deadline for the submission of written comments is November 13, 2017.

DATES: The public hearing will convene on November 2, 2017, at 2:30 p.m. The public hearing will end at 5:00 p.m. or at the conclusion of public testimony, whichever is sooner. The deadline for the submission of written comments is November 13, 2017.

ADDRESSES: The public hearing will be conducted at the Pennsylvania State Capitol, Room 8E-B, East Wing, Commonwealth Avenue, Harrisburg, Pa.

FOR FURTHER INFORMATION CONTACT: Jason Oyler, General Counsel, telephone: (717) 238-0423, ext. 1312; fax: (717) 238-2436.

Information concerning the applications for these projects is available at the SRBC Water Application and Approval Viewer at http://mdw.srbc.net/waav. Additional supporting documents are available to inspect and copy in accordance with the Commission's Access to Records Policy at www.srbc.net/pubinfo/docs/2009-02_Access_to_Records_Policy_20140115.pdf.

SUPPLEMENTARY INFORMATION: The public hearing will cover the following projects:

Projects Scheduled for Action

1. Project Sponsor and Facility: Beech Creek Borough Authority, Beech Creek Borough, Clinton County, Pa. Application for renewal of groundwater withdrawal of up to 0.220 mgd (30-day average) from Well 2 (Docket No. 19870602).

2. Project Sponsor and Facility: Brymac, Inc. dba Mountain View Country Club (Pond ¾), Harris Township, Centre County, Pa. Application for surface water withdrawal of up to 0.240 mgd (peak day).

3. Project Sponsor and Facility: Cabot Oil & Gas Corporation (East Branch Tunkhannock Creek), Lenox Township, Susquehanna County, Pa. Application for surface water withdrawal of up to 1.000 mgd (peak day).

4. Project Sponsor and Facility: Cabot Oil & Gas Corporation (Meshoppen Creek), Lemon Township, Wyoming County, Pa. Modification to increase surface water withdrawal by an additional 0.500 mgd (peak day), for a total surface water withdrawal of up to 1.000 mgd (peak day) (Docket No. 20170302).

5. Project Sponsor and Facility: Chesapeake Appalachia, L.L.C. (Susquehanna River), Athens Township, Bradford County, Pa. Application for renewal of surface water withdrawal of up to 0.750 mgd (peak day) (Docket No. 20131202).

6. Project Sponsor and Facility: Houtzdale Municipal Authority, Gulich Township, Clearfield County, Pa. Application for groundwater withdrawal of up to 1.008 mgd (30-day average) from Well 14R.

7. Project Sponsor and Facility: LHP Management, LLC (Fishing Creek), Bald Eagle Township, Clinton County, Pa. Application for surface water withdrawal of up to 0.999 mgd (peak day).

8. Project Sponsor and Facility: Martinsburg Municipal Authority, North Woodbury Township, Blair County, Pa. Application for renewal of groundwater withdrawal of up to 0.346 mgd (30-day average) from Wineland Well 3 (Docket No. 19870304).

9. Project Sponsor and Facility: Borough of Mifflinburg, West Buffalo Township, Union County, Pa. Modification to request a reduction in the withdrawal rate of Well PW-2 from 0.554 mgd to 0.396 mgd (30-day average), and to eliminate wetlands monitoring condition (Docket No. 20141203).

10. Project Sponsor and Facility: Repsol Oil & Gas USA, LLC (Choconut Creek), Choconut Township, Susquehanna County, Pa. Application for renewal of surface water withdrawal of up to 0.999 mgd (peak day) (Docket No. 20131211).

11. Project Sponsor and Facility: Schuylkill Energy Resources, Inc., Mahanoy Township, Schuylkill County, Pa. Application for renewal of groundwater withdrawal of up to 5.000 mgd (30-day average) from Maple Hill Mine Shaft Well (Docket No. 19870101).

12. Project Sponsor and Facility: Schuylkill Energy Resources, Inc., Mahanoy Township, Schuylkill County, Pa. Application for renewal of consumptive use of up to 2.550 mgd (peak day) (Docket No. 19870101).

13. Project Sponsor: SUEZ Water Pennsylvania Inc. Project Facility: Shavertown Operation, Dallas Township, Luzerne County, Pa. Application for groundwater withdrawal of up to 0.288 mgd (30-day average) from the Salla Well.

14. Project Sponsor and Facility: SWN Production Company, LLC (Lycoming Creek), Lewis Township, Lycoming County, Pa. Application for renewal of surface water withdrawal of up to 0.500 mgd (peak day) (Docket No. 20131209).

15. Project Sponsor and Facility: SWN Production Company, LLC (Lycoming Creek), McIntyre Township, Lycoming County, Pa. Application for renewal of surface water withdrawal of up to 0.500 mgd (peak day) (Docket No. 20131210).

16. Project Sponsor and Facility: Village of Waverly, Tioga County, N.Y. Application for groundwater withdrawal of up to 0.320 mgd (30-day average) from Well 1.

17. Project Sponsor and Facility: Village of Waverly, Tioga County, N.Y. Application for groundwater withdrawal of up to 0.480 mgd (30-day average) from Well 2.

18. Project Sponsor and Facility: Village of Waverly, Tioga County, N.Y. Application for groundwater withdrawal of up to 0.470 mgd (30-day average) from Well 3.

Opportunity To Appear and Comment

Interested parties may appear at the hearing to offer comments to the Commission on any project listed above. The presiding officer reserves the right to limit oral statements in the interest of time and to otherwise control the course of the hearing. Guidelines for the public hearing will be posted on the Commission's Web site, www.srbc.net, prior to the hearing for review. The presiding officer reserves the right to modify or supplement such guidelines at the hearing. Written comments on any project listed above may also be mailed to Mr. Jason Oyler, General Counsel, Susquehanna River Basin Commission, 4423 North Front Street, Harrisburg, Pa. 17110-1788, or submitted electronically through www.srbc.net/pubinfo/publicparticipation.htm. Comments mailed or electronically submitted must be received by the Commission on or before November 13, 2017, to be considered.

Authority: Pub. L. 91-575, 84 Stat. 1509 et seq., 18 CFR parts 806, 807, and 808.

Dated: September 29, 2017.
Stephanie L. Richardson,
Secretary to the Commission.

[FR Doc. 2017-21324 Filed 10-3-17; 8:45 am]

BILLING CODE 7040-01-P